FEDERAL COMMUNICATIONS COMMISSION

[Report No. 2555]

Petition for Reconsideration of Action in Rulemaking Proceeding

June 4, 2002.

Petition for Reconsideration has been filed in the Commission's rulemaking proceeding listed in this Public Notice and published pursuant to 47 CFR Section 1.429(e). The full text of this document is available for viewing and copying in Room CY-A257, 445 12th Street, SW., Washington, DC or may be purchased from the Commission's copy contractor, Qualex International (202) 863-2893. See Section 1.4(b)(1) of the Commission's rules (47 CFR 1.4(b)(1)). Replies to an opposition must be filed within 10 days after the time for filing oppositions has expired.

Subject: Amendment FM Table of Allotments, Order to Show Cause (MM Docket No. 89-120); Amendment FM Table of Allotments, Order to Show Cause (MM Docket No. 91-352); Amendment of FM Table of Allotments (MM Docket No. 90-195); Amendment of the FM Table of Allotments (MM Docket No. 92-214).

Number of Petitions Filed: 1.

Marlene H. Dortch,
Secretary.

[FR Doc. 02-14461 Filed 6-7-02; 8:45 am]

BILLING CODE 6712-01-M